DEPARTMENT OF COMMERCE

National Oceanic and Atmospheric Administration

[RTID 0648-XB059]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries will host a virtual meeting of the Council Coordination Committee (CCC), consisting of the Regional Fishery Management Council (Council) chairs, vice chairs, and executive directors from May 18 to May 20, 2021. The intent of this meeting is to discuss issues of relevance to the Councils and NMFS, including issues related to the implementation of the Magnuson-Stevens Fishery Conservation and Management Reauthorization Act (MSA).

DATES: The meeting will begin at 1:30 p.m. Eastern Daylight Time (EDT) on Tuesday, May 18, 2021, recess at 5:30 p.m., reconvene at 1:30 p.m. EDT on Wednesday, May 19, 2021, recess at 5:30 p.m., and reconvene on the final day at 1:30 p.m. EDT, Thursday, May 20, 2021, adjourning at 5:30 p.m.

ADDRESSES: The meeting will be held online via WebEx. Attendees can find information on how to join at https://www.fisheries.noaa.gov/national/partners/council-coordination-committee and http://www.fisherycouncils.org/ccc-meetings.

FOR FURTHER INFORMATION CONTACT: Nicholas Pieper by email at Nicholas.Pieper@noaa.gov or at (301) 427-8500.

SUPPLEMENTARY INFORMATION: The 2007 reauthorization of the MSA established the CCC. The CCC consists of the chairs, vice chairs, and executive directors of each of the eight Regional Fishery Management Councils, or their respective proxies. All sessions are open to the public and time will be set aside for public comments at the end of each day and after specific sessions at the discretion of the meeting Chair. The meeting Chair will announce public comment times and instructions to provide comment at the start of each meeting day. Updates to this meeting and additional information will be posted on https://www.fisheries.noaa.gov/national/partners/council-coordination-committee and http://www.fisherycouncils.org/ when available.

Proposed Agenda

Tuesday, May 18, 2021—1:30 p.m.-5:30 p.m. EDT

1. Welcome and Introduction

2. Approval of Agenda and Minutes

3. NMFS Update and Upcoming Priorities

4. NMFS Fisheries Science Update

5. Legislative Outlook

6. Integration of Endangered Species Act Section 7 with MSA

7. Public Comment

8. Adjourn Day 1

Wednesday, May 19, 2021—1:30 p.m.-5:30 p.m. EDT

1. Welcome

2. Recent Executive Orders

3. Offshore Wind Development

4. MSA National Standard1 Draft Technical Memorandum on managing with annual catch limits (ACLs) for data-limited stocks and update on working group products

5. CCC Committees

6. Public Comment

7. Adjourn Day 2

Thursday, May 20, 2021—1:30 p.m.-5:30 p.m. EDT

1. Welcome

2. Seafood Competitiveness, Marketing, and Economic Growth

3. Electronic Monitoring

4. Policy and Procedural Directives on Guidance for Financial Disclosures and Recusals

5. Public Comment

6. Wrap-up and Other Business

7. Adjourn Day 3

The order in which the agenda items are addressed may be adjusted by the meeting Chair to stay on time. The CCC will meet as late as necessary to complete scheduled business.

Special Accommodations

If you have particular access needs please contact Nicholas Pieper at Nicholas.Pieper@noaa.gov prior to the meeting for accommodation.

Dated: April 30, 2021.
Jennifer M. Wallace,
Acting Director, Office of Sustainable Fisheries, National Marine Fisheries Service.

[FR Doc. 2021-09493 Filed 5-4-21; 8:45 am]

BILLING CODE 3510-22-P